DEPARTMENT OF TRANSPORTATION

Pipeline and Hazardous Materials Safety Administration

[Docket No. PHMSA-2008-22720 (Notice No. 08-04)]

Hazardous Materials Instructor Training Grants Program; Availability of Funds

AGENCY: Pipeline and Hazardous Materials Safety Administration, DOT.

ACTION: Notice.

SUMMARY: The Pipeline and Hazardous Materials Safety Administration (PHMSA) announces the availability of funds and solicitation of applications for grants to be awarded under the Hazardous Materials Instructor Training (HMIT) Grants Program for fiscal year 2009. The HMIT Grants Program is open to non-profit hazardous materials (hazmat) employee organizations demonstrating expertise in conducting a training program for hazmat employees, and the ability to reach a target population of hazmat employees. For the purposes of the HMIT Grants program, an “employee organization” is a labor union, association, group, or similar organization the members of which are hazmat employees and the stated purpose of which is to represent hazmat employees.

DATES: Application packages will be available April 15, 2008. Completed applications must be submitted by July 15, 2008. Grants will be awarded in September 2008.

ADDRESSES: Applications may be submitted electronically at http://www.grants.gov or mailed to Charles G. Rogoff, HMIT Grants Manager, Office of Hazardous Materials Planning and Analysis; Pipeline and Hazardous Materials Safety Administration; U.S. Department of Transportation; Room E23-301; East Building 1200 New Jersey Ave., SE., Washington, DC 20590.

FOR FURTHER INFORMATION CONTACT: Charles G. Rogoff, HMIT Grants Manager; Office of Hazardous Materials Planning and Analysis; Pipeline and Hazardous Materials Safety Administration; U.S. Department of Transportation; Room E23-301; East Building 1200 New Jersey Ave., SE., Washington, DC 20590; Telephone: 202-366-0001.

SUPPLEMENTARY INFORMATION:

Availability of Funds. The Hazardous Materials Transportation Safety and Security Reauthorization Act of 2005 (the Act; Title VII of Pub. L. 109-59, 119 Stat. 1144 (August 10, 2005)) provides for the Secretary of Transportation, subject to the availability of funds, to make grants for training instructors to train hazardous materials employees (hazmat employees) and, to the extent determined appropriate, for such instructors to train hazmat employees. The Hazardous Materials Instructor Training (HMIT) Grants Program is funded by registration fees collected from certain hazardous materials shippers and carriers in accordance with 49 CFR Part 107, Subpart G. Approximately $4,000,000 will be awarded in September 2008 for the HMIT Grants Program. These awards are available for use during a twelve-month budget period [October 1, 2008 to September 30, 2009]. We expect grant awards to range from $250,000 to $500,000 depending upon the number and quality of applications received. We encourage the addition of non-Federal funds to support the training program, but cost-sharing or matching funding is not required.

Objective of the HMIT Grants Program. The objective of the HMIT Grants Program is to “train the trainer”—that is, to train hazmat instructors who will then train hazmat employees in the proper handling of hazardous materials. Properly planned and maintained training programs are essential to ensuring that hazmat employees receive an initial and continuing understanding of the risks involved in transporting hazardous materials, the relevant requirements that have to be met, and the need for performing their duties in a way that will ensure their safety and the safety of others. Experience shows that effective training of employees can effectively reduce risk and the likelihood of hazmat incidents. Effective training of employees is key to ensuring that hazardous materials are transported safely.

Due to budget and other limitations, many hazmat employees cannot leave their employment locations for extended periods of time to attend training courses. Instructors trained under this grant program can offer training to a large number of hazmat employees at locations within close proximity to the hazmat employees' places of employment, thereby significantly minimizing employee travel cost and training time.

As provided by the Act, funds awarded to an organization in accordance with the HMIT Grants Program may be used to train hazmat instructors and, to the extent determined to be appropriate, for such instructors to train hazmat employees. PHMSA has determined that, because we have limited funding available, grants awarded for FY 2009 (October 1, 2008-September 30, 2009) must be used exclusively for “train the trainer” programs. Grant funds are not authorized to be used to fund an organization's existing hazmat training program.

Eligibility. The HMIT Grants Program is open to non-profit hazardous materials employee organizations demonstrating: (1) Expertise in conducting a training program for hazmat employees, and (2) the ability to reach a target population of hazmat employees. For the purposes of the HMIT Grants program, an “employee organization” is a labor union, association, group, or similar organization the members of which are hazardous materials employees and the stated purpose of which is to represent hazmat employees.

Two or more non-profit hazmat employee organizations may team together to submit a joint grant application. A hazmat employee, as defined under the Hazardous Materials Regulations (HMR; 49 CFR Parts 171-180), is a person who, in the course of full time, part time, or temporary employment, directly affects hazardous materials transportation safety. Hazmat employees include self-employed persons, including owner-operators of motor vehicles, vessel, or aircraft crewmembers and employees, and railroad signalmen and maintenance-of-way employees. The term includes a person who:

(1) Loads, unloads, or handles hazardous materials;

(2) Designs, manufactures, fabricates, inspects, marks, maintains, reconditions, repairs, or tests a package, container or packaging component that is represented, marked, certified, or sold as qualified for use in transporting hazardous material in commerce.

(3) Prepares hazardous materials for transportation;

(4) Is responsible for safety of transporting hazardous materials; or

(5) Operates a vehicle used to transport hazardous materials.

In accordance with § 172.704 of the HMR hazmat employees must be trained in four areas:

(1) General awareness/familiarization training providing familiarity with the requirements of the HMR and enabling the hazmat employee to recognize and identify hazardous materials consistent with the hazard communication requirements of the HMR,

(2) Function-specific training concerning the requirements of the HMR specifically applicable to the functions performed by the hazmat employee,

(3) Safety training including measures to protect the employee from the hazards associated with the hazardous materials to which he or she may be exposed in the workplace, and

(4) Security awareness training providing an awareness of the security risks associated with hazardous materials transportation and measures to enhance transportation security.

For example, function-specific training would include training for persons who are responsible for preparing shipments for transportation, including selecting an appropriate packaging, filling the packaging, applying applicable package marks and labels, and preparing shipping documentation. Function-specific training would also include training for persons responsible for performing transportation functions, such as loading or unloading of containers and transport conveyances. Safety training would address training related to the specific hazards associated with the materials to which a hazmat employee may be exposed and protective measures in the event of an emergency, such as hazards and protective measures associated with ethanol fuel blends.

Application requirements. The requirements in 49 CFR Part 19, “Uniform Administrative Requirements for Grants and Agreements with Institutions of Higher Education, Hospitals, and other Non-Profit Organizations” apply to the HMIT grant program.

An applicant must address the following factors:

(1) Qualification as a non-profit hazmat employee organization, including the type or types of hazmat employees represented and the number of employees represented.

(2) Expertise and experience in conducting hazmat employee trainer education programs.

(3) Ability to train hazmat instructors to reach and involve a target population of hazmat employees.

(4) Training needs assessment for the target population of hazmat instructors and employees. The purpose of a needs assessment is to assess the level of understanding held by students and compare this with the desired level of understanding at the completion of training. Also required is an estimate of the numbers of instructors and employees requiring training. The training curriculum and delivery methods must be flexible enough to address the needs of the students as determined by the needs assessment.

(5) Prioritization of training needs based on the needs assessment.

(6) A training curriculum for the instructors to be trained in the program and an explanation of how the training will be provided (e.g., classroom instruction, self-directed training using booklets, CD or DVD modules, or computer-based programs). The training curriculum must include details on the specific HMR training requirements that will be covered.

(7) A process for assessing the effectiveness of the training program(s) and evaluating students. This process will involve a continuous system for evaluating and monitoring employee competencies including changes in regulatory requirements, business or operational practices, introduction of new equipment or procedures or any change in business processes that require revised or new competencies on the part of hazmat employees. Course evaluation involves the evaluation of student performance as well the evaluation of the trainer, and the training program.

(8) A process to validate that the training program accomplished its intended purpose and its objectives were achieved in the most cost effective manner. Validation involves the hazmat employer, the hazmat employee and the trainer and the training organization.

(9) A statement-of-work describing the amount of funding requested and the activities for which the funding will be used.

Review and selection process. A committee of Federal agency representatives with expertise in hazmat instructor training programs will evaluate the grant applications. Each grant application will be evaluated in accordance with the following criteria:

(1) Organization demonstrates quantified need for training (15%).

(2) Degree to which the proposed training program meets the identified training needs (15%).

(3) Number of instructors to be trained (15%).

(4) Projected number of hazmat employees each instructor is expected to train (10%).

(5) Projected impact of the training in reducing risk and enhancing hazmat transportation safety (15%).

(6) Organization's prior experience in providing hazmat instructor and employee training and the facilities/mechanisms in place to conduct the training (10%).

(7) Efficiency and cost associated with conducting the training (10%)

(8) Ability to account for program expenditures and program outcomes (10%).

The PHMSA Administrator will have the final approval to evaluate and select applicants and award financial assistance. The agency may ask an applicant to modify its objectives, work plan, or budget and provide supplemental information prior to award. The Administrator's decision is final.

Issued in Washington, DC on April 7, 2008.
Theodore L. Willke,
Associate Administrator for Hazardous Materials Safety.

[FR Doc. E8-7703 Filed 4-10-08; 8:45 am]

BILLING CODE 4910-60-P